DEPARTMENT OF TRANSPORTATION

Surface Transportation Board

[STB Finance Docket No. 35050]

Duluth, Winnipeg and Pacific Railway Company—Trackage Rights Exemption—Wisconsin Central Ltd.

Pursuant to a written trackage rights agreement dated June 4, 2007, Wisconsin Central Ltd. (WC) has agreed to grant overhead trackage rights to Duluth, Winnipeg and Pacific Railway Company (DWP) over a line of railroad between South Itasca, WI (milepost 455.1), and Fond du Lac (Shops Yard), WI (milepost 158.4), via Hoover, WI, including all industry spurs, connecting tracks and sidings now existent or hereafter constructed along the subject tracks, and right-of-way for the tracks, signals, interlocking devices and plants, telegraph and telephone lines, and other necessary appurtenances, a distance of approximately 296.7 miles, all within the State of Wisconsin.¹

¹ A redacted version of the trackage rights agreement between DWP and WC was filed with the notice of exemption. The full version of the agreement, as required by 49 CFR 1180.6(a)(7)(ii), was concurrently filed under seal along with a motion for protective order. The request for a protective order is being addressed in a separate decision.

The earliest this transaction may be consummated is July 14, 2007, the effective date of the exemption (30 days after the exemption was filed).

The purpose of the trackage rights is to enhance operational efficiency in the movement of overhead freight movements, reblocking of cars within the same train, and setting out cars requiring servicing between South Itasca and Fond du Lac (Shops Yard).

As a condition to this exemption, any employees affected by the trackage rights will be protected by the conditions imposed in Norfolk and Western Ry. Co.—Trackage Rights—BN, 354 I.C.C. 605 (1978), as modified in Mendocino Coast Ry., Inc.—Lease and Operate, 360 I.C.C. 653 (1980).

This notice is filed under 49 CFR 1180.2(d)(7). If the notice contains false or misleading information, the exemption is void ab initio. Petitions to revoke the exemption under 49 U.S.C. 10502(d) may be filed at any time. The filing of a petition to revoke will not automatically stay the effectiveness of the exemption. Stay petitions must be filed by July 6, 2007 (at least 7 days before the exemption becomes effective).

An original and 10 copies of all pleadings, referring to STB Finance Docket No. 35050, must be filed with the Surface Transportation Board, 395 E Street, SW., Washington, DC 20423-0001. In addition, a copy of each pleading must be served on Thomas J. Healey, 17641 S. Ashland Ave., Homewood, IL 60430.

Board decisions and notices are available on our Web site at http://www.stb.dot.gov.

Decided: June 25, 2007.
By the Board, David M. Konschnik, Director, Office of Proceedings.
Vernon A. Williams,
Secretary.

[FR Doc. E7-12559 Filed 6-28-07; 8:45 am]

BILLING CODE 4915-01-P